DEPARTMENT OF TRANSPORTATION

National Highway Traffic Safety Administration

[Docket No. NHTSA 2004-18972; Notice 2]

Michelin North America, Inc., Grant of Petition for Decision of Inconsequential Noncompliance

Michelin North America, Inc. (Michelin) has determined that the sidewall markings on certain tires that it manufactured in 2000 through 2003 do not comply with S4.2.1(c) of 49 CFR 571.109, Federal Motor Vehicle Safety Standard (FMVSS) No. 109, “New pneumatic tires.” Pursuant to 49 U.S.C. 30118(d) and 30120(h), Michelin has petitioned for a determination that this noncompliance is inconsequential to motor vehicle safety and has filed an appropriate report pursuant to 49 CFR part 573, “Defect and Noncompliance Reports.” Notice of receipt of a petition was published, with a 30-day comment period, on September 14, 2004, in the Federal Register (69 FR 55492). NHTSA received one comment.

A total of approximately 60,729 Michelin Symmetry P195/60R15 87S tires manufactured during 8/29/00 to 10/19/03 and approximately 12,633 Michelin Symmetry P205/60R15 90S tires manufacturing during 8/6/00 to 9/22/00 and 7/27/03 to 8/23/03 are affected. S4.2.1 of FMVSS No. 109 requires that each tire shall conform to the requirement that “(c) Its load rating shall be that specified in * * * one of the publications described in S4.4.1(b).”

The sidewall markings on the affected tires do not comply with S4.2.1(c) because the sidewall markings understate the actual carrying capacity of the tires. The Max Load value indicated is less than the actual load carry capability of the tires at the marked air pressure value of 240 kPa (35 psi). The P195/60R15 tires are incorrectly marked MAX LOAD 470 kg (1036 Lbs) and should have been marked Max Load 540 kg (1190 Lbs). The P205/60R15 tires are incorrectly marked MAX LOAD 510 kg (1124 Lbs) and should have been marked Max Load 590 kg (1301 Lbs).

Michelin believes that the noncompliance is inconsequential to motor vehicle safety and that no corrective action is warranted. Michelin stated that at the indicated maximum pressure value of 35 psi the P195/60R15 tire will carry an extra 151 pounds per tire and the P205/60R15 tire will carry an additional 177 pounds per tire, thus consumers relying upon the carrying capacity values marked on the tires will put less load on the tires than they are capable of carrying. Michelin further stated that all of the performance requirements of FMVSS No. 109 are met or exceeded, and the tires are marked with the correct maximum pressure value of 35 psi.

NHTSA received one comment on the petition from a private individual that did not address the effect on motor vehicle safety of this noncompliance.

NHTSA agrees that the noncompliance is inconsequential to motor vehicle safety. At the indicated maximum pressure value, the tire will carry an additional load, therefore there is no likelihood of creating an unsafe condition. In addition, all FMVSS No. 109 performance requirements are met, and all other informational markings as required by FMVSS No. 109 are present. Michelin has corrected the problem.

In consideration of the foregoing, NHTSA has decided that the petitioner has met its burden of persuasion that the noncompliance described is inconsequential to motor vehicle safety. Accordingly, Michelin's petition is granted and the petitioner is exempted from the obligation of providing notification of, and a remedy for, the noncompliance.

Authority: 49 U.S.C. 30118, 30120; delegations of authority at CFR 1.50 and 501.8.

Issued on: October 20, 2004.
Kenneth N. Weinstein,
Associate Administrator for Enforcement.

[FR Doc. 04-23875 Filed 10-25-04; 8:45 am]

BILLING CODE 4910-59-P